DEPARTMENT OF AGRICUTURE

Natural Resources Conservation Service

Description of System To Rank and Approve Requests for Assistance for Rehabilitation of Aging Watershed Dams

AGENCY: Natural Resources Conservation Service, USDA.

ACTION: Notice of availability.

SUMMARY: Pursuant to Section 14 (f) of the Watershed Protection and Flood Prevention Act (Pub. L. 83-566), as amended (16 U.S.C. 1012); The Natural Resources Conservation Service, U.S. Department of Agriculture, gives notice that a system to rank and approve requests for rehabilitation of watershed dams has been prepared for use in implementation of a rehabilitation program.

FOR FURTHER INFORMATION CONTACT: Larry W. Caldwell, National Policy Coordinator for Aging Watershed Infrastructure, Natural Resources Conservation Service, 100 USDA Suite 206, Stillwater, Oklahoma 74074-2655.

SUPPLEMENTARY INFORMATION: Public Law 83-566 was amended by Section 313 of Public Law 106-472. One provision of this amendment directed the Secretary of Agriculture to establish a system of ranking and approving requests for rehabilitation of watershed dams. A description of the system that will be implemented in FY 2002 to establish a priority ranking of all applications for assistance received in a state has been developed. Copies of the description of this ranking and approval system are available upon request at the above address.

Roger L. Bensey,
Director, Watersheds and Wetlands Division.

[FR Doc. 01-31745 Filed 12-26-01; 8:45 am]

BILLING CODE 3410-16-P